DEPARTMENT OF TRANSPORTATION

Office of the Secretary

Certificates of Public Convenience and Necessity and Foreign Air Carrier Permits

Notice of Applications for Certificates of Public Convenience and Necessity and Foreign Air Carrier Permits Filed Under Subpart B (formerly Subpart Q) during the Week Ending March 16, 2013. The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2013-0049.

Date Filed: March 11, 2013.

Due Date for Answers, Conforming Applications, or Motion To Modify Scope: April 1, 2013.

Description: Application of Air China Limited d/b/a Air China requesting an amendment of its foreign air carrier permit to include Houston, Texas as a coterminal point in the United States, together with the existing coterminal points authorized in its foreign air carrier permit.

Docket Number: DOT-OST-2013-0053.

Date Filed: March 14, 2013.

Due Date for Answers, Conforming Applications, or Motion To Modify Scope: April 4, 2013.

Description: Joint application of Delta Air Lines, Inc. (“Delta”) and Pinnacle Airlines, Inc. (“Pinnacle”) requesting a disclaimer of jurisdiction or, in the alternative, approval of the de facto transfer of certain international certificate and other authorities held by Pinnacle to Delta.

Barbara J. Hairston,
Acting Program Manager, Docket Operations, Federal Register Liaison.

[FR Doc. 2013-07363 Filed 3-28-13; 8:45 am]

BILLING CODE 4910-9X-P